DEPARTMENT OF DEFENSE

Department of the Navy

Notice of Availability for Donation of the Test Craft Ex-SEA SHADOW (IX-529) and Hughes Mining Barge (HMB-1)

AGENCY: Department of the Navy, DoD.

ACTION: Notice.

SUMMARY: The Department of the Navy hereby gives notice of the availability for donation, under the authority of 10 U.S.C. 7306, of the Test Craft ex-SEA SHADOW (IX 529) and the Hughes Mining Barge (HMB-1), both located at the Maritime Administration's Suisun Bay National Defense Reserve Fleet, Benicia, CA. Ex-SEA SHADOW is contained inside HMB-1, which is a covered floating dry-dock, and is being offered for donation as a single unit. The donee may display the two vessels as currently configured as a single unit, or display them individually. In either case, the Navy intends to donate the two vessels as a single unit and the donee will be required to remove the two vessels from Navy custody as a unit. Eligible recipients include: (1) Any State, Commonwealth, or possession of the United States or any municipal corporation or political subdivision thereof; (2) the District of Columbia; or (3) any organization incorporated as a non-profit entity under section 501 of the Internal Revenue Code.

The transfer of a vessel for donation under 10 U.S.C 7306 shall be made at no cost to the United States Government. The donee will be required to maintain ex-SEA SHADOW as a static museum/memorial in a condition that is satisfactory to the Secretary of the Navy.

Prospective donees must submit a comprehensive application that addresses the significant financial, technical, environmental, and curatorial responsibilities associated with donated Navy vessels. Further application information can be found on the Navy Ship Donation Program Web site at http://www.navsea.navy.mil/ndp.

All vessels currently in a donation hold status, including ex-SEA SHADOW (IX 529) and the Hughes Mining Barge (HMB-1), will be reviewed by the Chief of Naval Operations during the annual Ship Disposition Review process, at which time a determination will be made whether to extend donation hold status. If the Navy receives no interest by an eligible recipient within two years, the Navy reserves the right to remove the vessels from donation consideration and proceed with their disposal.

Other ships that are currently available for donation include:

(1) Patrol Combat ex-CANON (PG 90), Philadelphia, PA.

(2) Guided Missile Destroyer ex-CHARLES F. ADAMS (DDG 2), Philadelphia, PA.

(3) Destroyer ex-CONOLLY (DD 979), Philadelphia, PA.

(4) Destroyer ex-EDSON (DD 946), Philadelphia, PA.

(5) Submarine ex-TROUT (SS 566), Philadelphia, PA.

(6) Guided Missile Cruiser ex-TICONDEROGA (CG 47), Philadelphia, PA.

(7) Aircraft Carrier ex-RANGER (CV 61), Bremerton, WA.

For Further Information and Submission of Ship Donation Applications, Contact: Commander, Program Executive Office Ships (PEO SHIPS), PMS333, Navy Inactive Ship Program Office, Ship Donation Program, ATTN: Ms. Gloria Carvalho (PMS 333G), 300 M Street, SE., Suite 500, Washington, DC 20003, telephone number 202-781-0485.

Dated: September 7, 2006.
M.A. Harvison,
Lieutenant Commander, Judge Advocate General's Corps, U.S. Navy, Federal Register Liaison Officer.

[FR Doc. E6-15236 Filed 9-13-06; 8:45 am]

BILLING CODE 3810-FF-P